DEPARTMENT OF STATE

[Public Notice: 9176 ]

60-Day Notice of Proposed Information Collection: Affidavit of Physical Presence or Residence, Parentage and Support

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to August 28, 2015.

ADDRESSES: You may submit comments by any of the following methods:

• Web: Persons with access to the Internet may comment on this notice by going to www.Regulations.gov. You can search for the document by entering Docket Number: DOS-2015-0024 in the search field. Then click the “Comment Now” button and complete the comment form.

• Email: RiversDA@state.gov.

• Mail: (paper, disk, or CD-ROM submissions): U.S. Department of State, CA/OCS/PMO, SA-17, 10th Floor, Washington, DC 20036.

• Fax: 202-736-9111.

• Hand Delivery or Courier: U.S. Department of State, CA/OCS/PMO, 600 19th St. NW., 10th Floor, Washington, DC 20036.

You must include the DS form number (if applicable), information collection title, and the OMB control number in any correspondence.

FOR FURTHER INFORMATION CONTACT: Direct requests for additional information regarding the collection listed in this notice, including requests for copies of the proposed collection instrument and supporting documents, to Derek Rivers, Bureau of Consular Affairs, Overseas Citizens Services (CA/OCS/PMO), U.S. Department of State, SA-17, 10th Floor, Washington, DC 20036 or at RiversDA@state.gov.

SUPPLEMENTARY INFORMATION: • Title of Information Collection: DS 5507, Affidavit of Physical Presence or Residence, Parentage and Support.

• OMB Control Number: OMB No.1405-0187.

• Type of Request: Extension.

• Originating Office: Bureau of Consular Affairs, Overseas Citizens Services (CA/OCS).

• Form Number: DS-5507.

• Respondents: U.S. Citizens or Nationals.

• Estimated Number of Respondents: 17,716.

• Estimated Number of Responses: 17,716.

• Average Hours per Response: 30 minutes.

• Total Estimated Burden: 8,858 hours.

• Frequency: On Occasion.

• Obligation to Respond: Application for Benefits. Although acquisition of U.S. citizenship at birth is not a federal “benefit,” U.S. citizen/national parent(s) will not be able to obtain a Consular Report of Birth Abroad of a U.S. Citizen or a U.S. passport for their children born abroad if they do not provide the information requested in the form and establish all statutory requirements have been met to transmit U.S. citizenship to their children.

We are soliciting public comments to permit the Department to:

• Evaluate whether the proposed information collection is necessary for the proper functions of the Department.

• Evaluate the accuracy of our estimate of the time and cost burden for this proposed collection, including the validity of the methodology and assumptions used.

• Enhance the quality, utility, and clarity of the requests for information to be collected.

• Minimize the reporting burden on those who are to respond, including the use of automated collection techniques or other forms of information technology.

Please note that comments submitted in response to this Notice are public record. Before including any detailed personal information, you should be aware that your comments as submitted, including your personal information, will be available for public review.

Abstract of Proposed Collection

The purpose of the information collection is to determine whether a U.S. citizen/national parent has met the statutory physical presence or residence requirements to transmit U.S. citizenship to his or her child born abroad or in the United States for U.S. noncitizen nationality; to establish parentage of the child; and to fulfill the requirements of 8 U.S.C. 1409(a), which permits acknowledgment of paternity under oath and requires the U.S. citizen father's written agreement to provide financial support for his child born abroad out of wedlock. The affidavit may also be submitted by the U.S. citizen parent(s) to explain why a local birth certificate is unavailable and to state the facts that are relevant to the birth abroad.

Methodology

The information is collected in person or by mail. The Bureau of Consular Affairs is currently exploring options to make this information collection available electronically.

Dated: June 5, 2015.
Michelle Bernier-Toth,
Managing Director, Bureau of Consular Affairs, Department of State.

[FR Doc. 2015-15904 Filed 6-26-15; 8:45 am]

BILLING CODE 4710-06-P